DEPARTMENT OF ENERGY

Federal Energy Regulatory Commission

[Docket No. RP03-190-000]

Florida Gas Transmission Company; Notice of Tariff Filing

December 11, 2002.

Take notice that on December 6, 2002, Florida Gas Transmission Company (FGT) tendered for filing as part of its FERC Gas Tariff, Third Revised Volume No. 1, the following tariff sheet, with an effective date of January 6, 2003:

Sixth Revised Sheet No. 187

FGT states that in Interstate Natural Gas Association of America v. FERC, 285 F. 3d 18 (DC Cir. 2002) (INGAA), the United States Court of Appeals for the District of Columbia remanded certain issues to the Commission regarding Order No. 637. Subsequently, in response to the Court's remand, the Commission issued its Order on Remand on October 31, 2002 in Docket No. RM98-10-011 (“Order”). Among other things, the Order removed the term matching cap for Shippers exercising their Right-of-First Refusal (“ROFR”). FGT states that in the instant filing, it is proposing modifications to the ROFR provisions of its Tariff. Specifically, FGT states it is modifying section 20.B.4 of its General Terms and Conditions (“GT&C”) by removing tariff provisions where Shippers are only required to match term provisions up to five years.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document.

For Assistance, please contact FERC Online Support at FERCOnlineSupport@ferc.gov or toll-free at (866) 208-3676, or TTY, contact (202) 502-8659. Comments, protests and interventions may be filed electronically via the Internet in lieu of paper. The Commission strongly encourages electronic filings. See18 CFR 385.2001(a)(1)(iii) and the instructions on the Commission's Web site under the “e-Filing” link.

Linwood A. Watson, Jr.,
Deputy Secretary.

[FR Doc. 02-31736 Filed 12-17-02; 8:45 am]

BILLING CODE 6717-01-P